DEPARTMENT OF COMMERCE

United States Patent and Trademark Office

Submission for OMB Review; Comment Request

The United States Patent and Trademark Office (USPTO) will submit to the Office of Management and Budget (OMB) for clearance the following proposal for collection of information under the provisions of the Paperwork Reduction Act (44 U.S.C. 35).

Agency: United States Patent and Trademark Office (USPTO).

Title: National Medal of Technology and Innovation Nomination Application.

Form Number(s): None.

Agency Approval Number: 0651-0060.

Type of Request: Extension of a currently approved collection.

Burden: 1,600 hours annually.

Number of Respondents: 40 responses per year.

Avg. Hours per Response: The USPTO estimates that it will take the public approximately 40 hours to download the information from the USPTO Web site, prepare the nomination form, complete the contact information for the letters of recommendation or support, and submit the information to the USPTO via electronic mail or, alternatively, by fax or overnight delivery.

Needs and Uses: The public uses the National Medal of Technology and Innovation Nomination Application to recognize through nomination an individual's or company's extraordinary leadership and innovation in technological achievement. The application must be accompanied by six letters of recommendation or support from individuals who have first-hand knowledge of the cited achievement(s).

The USPTO uses the information to assist in the administration of the nomination process.

Affected Public: Individuals or households, businesses or other for-profits.

Frequency: On occasion.

Respondent's Obligation: Voluntary.

OMB Desk Officer: Nicholas A. Fraser, email: Nicholas_A._Fraser@omb.eop.gov.

Once submitted, the request will be publicly available in electronic format through the Information Collection Review page at www.reginfo.gov.

Paper copies can be obtained by:

• Email: InformationCollection@uspto.gov. Include “0651-0060 copy request” in the subject line of the message.

• Mail: Susan K. Fawcett, Records Officer, Office of the Chief Information Officer, United States Patent and Trademark Office, P.O. Box 1450, Alexandria, VA 22313-1450.

Written comments and recommendations for the proposed information collection should be sent on or before March 26, 2012 to Nicholas A. Fraser, OMB Desk Officer, via email to Nicholas_A._Fraser@omb.eop.gov, or by fax to 202-395-5167, marked to the attention of Nicholas A. Fraser.

Dated: February 16, 2012.
Susan K. Fawcett,
Records Officer, USPTO, Office of the Chief Information Officer.

[FR Doc. 2012-4116 Filed 2-22-12; 8:45 am]

BILLING CODE 3510-16-P